DEPARTMENT OF TRANSPORTATION

Federal Aviation Administration

Notice of Intent To Rule on Request To Release Airport Property at Nick Wilson Field, Pocahontas, AR

AGENCY: Federal Aviation Administration (FAA), DOT.

ACTION: Notice of request to release airport property

SUMMARY: The FAA proposes to rule and invites public comment on the release of land at Nick Wilson Field under the provisions of Section 125 of the Wendell H. Ford Aviation Investment Reform Act for the 21st Century (AIR 21).

DATES: Comments must be received on or before June 26, 2003.

ADDRESSES: Comments on this application may be mailed or delivered to the FAA at the following address: Mr. Edward Agnew, Manager, Federal Aviation Administration, Southwest Region, Airports Division, Arkansas/Oklahoma Airports Development Office, ASW-630, Forth Worth, Texas 76193-0630.

In addition, one copy of any comments submitted to the FAA must be mailed or delivered to Mayor Gary Crocker, City of Pocahontas, at the following address: City of Pocahontas, 410 North Marr Street, Pocahontas, AR 72455.

FOR FURTHER INFORMATION CONTACT: Mr. Paul Burns, Program Manager, Federal Aviation Administration, AR/OK ADO, ASW-630, 2601 Meacham Boulevard, Forth Worth, Texas 76193-0630.

The request to release property may be reviewed in person at this same location.

SUPPLEMENTARY INFORMATION: The FAA invites public comment on the request to release property at Nick Wilson Field under the provisions of the AIR 21.

On May 16, 2003, the FAA determined that the request to release property at Nick Wilson Field submitted by the City met the procedural requirements of the Federal Aviation Regulations, Part 155. The FAA may approve the request, in whole or in part, no later than July 16, 2003.

The following is a brief overview of the request:

The City of Pocahontas requests the release of 13.949 acres of non-aeronautical airport property. The land is part of a War Assets Administration deed of airport property to the City in 1947. The release of property will allow funding for maintenance, operation, and development of the airport.

The sale is estimated to provide $70,000 to be used to:

1. Construct a Fuel Delivery system.

2. Construct A Pilot's Lounge.

3. Refurbish a Maintenance Hangar.

4. Conduct a Master Plan Study.

All remaining proceeds for the sale will be deposited in an interest-bearing account and will be expended within 3 years on airport maintenance, operation, and development.

Any person may inspect the request in person at the FAA office listed above under FOR FURTHER INFORMATION CONTACT.

In addition, any person may, upon request, inspect the application, notice and other documents germane to the application in person at Nick Wilson Field.

Issued in Fort Worth, Texas on May 16, 2003.
Naomi L. Saunders,
Manager, Airports Divisions.

[FR Doc. 03-13155 Filed 5-23-03; 8:45 am]

BILLING CODE 4910-13-M